DEPARTMENT OF COMMERCE

National Oceanic and Atmospheric Administration

[RTID 0648-XE415]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a one day virtual meeting of its Standing and Special Mackerel Scientific and Statistical Committees (SSC).

DATES: The meeting will be held Thursday, December 5, 2024, from 8:30 a.m. to 4:30 p.m., EST.

ADDRESSES: The meeting will take place virtually. Registration information will be available on the Council's website by visiting www.gulfcouncil.org and clicking on the “meeting tab.”

Council address: Gulf of Mexico Fishery Management Council, 4107 W Spruce Street, Suite 200, Tampa, FL 33607; telephone: (813) 348-1630.

FOR FURTHER INFORMATION CONTACT: Mr. Ryan Rindone, Lead Fishery Biologist, Gulf of Mexico Fishery Management Council; ryan.rindone@gulfcouncil.org; telephone: (813) 348-1630.

SUPPLEMENTARY INFORMATION:

Thursday, December 5, 2024; 8:30 a.m.-4:30 p.m. EST

The meeting will begin with Introductions and Adoption of Agenda, Scope of Work, and review and approval of Meeting Minutes from the July/August 2024 SSC meeting.

The SSC Standing Committee, with the Special Mackerel SSC, will review the Southeast Data, Assessment, and Review (SEDAR) 99: Gulf Migratory Group King Mackerel Terms of Reference and Volunteers, including presentations, background materials, draft schedule, and SSC discussion.

The Standing SSC will review and discuss the SEDAR 98: Gulf Red Snapper Assessment Workshop Volunteers, followed by the review of Southeastern U.S. Black Grouper Management Strategy Evaluation including presentations, background materials and SSC Discussion. Following, the SSC will review the SEDAR 88: Gulf Red Grouper Stock Assessment, including presentations, background information, and SSC discussion. The SSC will also discuss the 2025-2028 Research and Monitoring Priorities.

Public comments will be heard at the end of the day before any items under Other Business are discussed.

—Meeting Adjourns

The meeting will be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take-action to address the emergency.

Special Accommodations

The meeting is physically accessible to people with disabilities. Requests for sign language interpretation or other auxiliary aid should be directed to Kathy Pereira, (813) 348-1630, at least 5 days prior to the meeting date.

Authority: 16 U.S.C. 1801 et seq.

Dated: November 8, 2024.
Alyssa Weigers,
Acting Deputy Director, Office of Sustainable Fisheries, National Marine Fisheries Service.

[FR Doc. 2024-26528 Filed 11-13-24; 8:45 am]

BILLING CODE 3510-22-P